DEPARTMENT OF HEALTH AND HUMAN SERVICES

Health Resources and Services Administration

Regional Collaborative for the Pacific Basin (RCPB) Cooperative Agreement

AGENCY: Health Resources and Services Administration (HRSA), HHS.

ACTION: Notice of Non-competitive Supplemental Funding Award.

SUMMARY: HRSA will be providing supplemental funds to support activities for a regional Pacific Primary Care Organization to represent the six U.S.-affiliated Pacific Basin jurisdictions. The supplemental funds will be used to augment the grantee's current activities to improve data strategies and address the health workforce needs in the region.

SUPPLEMENTARY INFORMATION: Intended recipient of the award: Research Corporation of the University of Hawaii Direct Project Pacific Islands Health Officers Association, Honolulu, Hawaii.

Amount of the award: $150,000 to improve the public health data capacity and health workforce capacity for the Pacific Basin jurisdictions.

Authority: Sections 241 and 301 of the Public Health Service Act, as amended (42 U.S.C. 238J and 241 respectively); Title 3 Section 330(k), 330(m), 333(d) of the Public Health Service Act, as amended (42 U.S.C. 254b and 254c respectively).

CFDA Number: 93.110.

Project period: The period of the supplemental support is from March 1, 2010 to August 31, 2010.

Justification for the Exception to Competition

The public health data systems in the U.S.-affiliated Pacific Islands (USAPI) are inadequate as a result of poor infrastructure capacity. There is inconsistency in data collection and analysis among the jurisdictions. The result is that the prevalence of disease conditions in the USAPI is underestimated. In addition, the lack of data increases the communicable disease threats to USAPI populations and to the U.S. communities which experience high migration of residents from these jurisdictions. Furthermore, the current health workforce in the USAPI is impacted by chronic health worker shortages and under-training of its current workforce. The workforce problems are serious, chronic, and unique to insular areas which have fewer resources to address them. A Pacific PCO will provide regional resources to ensure more effective health workforce planning, implementation and evaluation, and coordination between local and regional health and education sector. Further funding beyond August 31, 2010, will be competitively awarded during the next competing application process for fiscal year 2010 for the Regional Collaborative for the Pacific Basin.

FOR FURTHER INFORMATION CONTACT: Lynnette S. Araki, via e-mail Laraki@hrsa.gov, or via telephone: 301-443-6204.

Dated: March 11, 2010.
Mary K. Wakefield,
Administrator.

[FR Doc. 2010-5981 Filed 3-17-10; 8:45 am]

BILLING CODE 4165-15-P